DEPARTMENT OF AGRICULTURE

Forest Service

Deschutes Provincial Interagency Executive Committee (PIEC), Advisory Committee

AGENCY: Forest Service, Agriculture.

ACTION: Notice of meeting.

SUMMARY: The Deschutes PIEC Advisory Committee will meet on April 11, 2001 at the Warm Springs Power Enterprises Conference Room located at 5180 Jackson Trail Road in Warm Springs, Oregon. A business meeting will begin at 9:30 am and finish at 4:00 pm. Agenda items will include a Review of Subcommittee Work and Finalize Goals and Actions, Monitoring Presentation and Q&A, Info Sharing and a Public Forum from 3:30 pm till 4:00 pm. All Deschutes Province Advisory Committee Meetings are open to the public.

FOR FURTHER INFORMATION CONTACT: Mollie Chaudet, Province Liaison, USDA, Bent-Ft. Rock Ranger District, 1230 N.E. 3rd., Bend, OR, 97701, Phone (541) 416-6872.

Dated: March 22, 2001.
Leslie A.C. Weldon,
Deschutes National Forest Supervisor.

[FR Doc. 01-7604 Filed 3-27-01; 8:45 am]

BILLING CODE 3410-11-M